DEPARTMENT OF THE TREASURY

Submission for OMB Review; Comment Request

July 21, 2009.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, and 1750 Pennsylvania Avenue, NW., Washington, DC 20220.

DATES: Written comments should be received on or before August 27, 2009 to be assured of consideration.

Internal Revenue Service (IRS)

OMB Number: 1545-0432.

Type of Review: Extension.

Form: 5495.

Title: Request for Discharge from Personal Liability under Internal Revenue Code Section 2204 or 6905.

Description: Form 5495 provides guidance under sections 2204 and 6905 for executors of estates and fiduciaries of decedent's trusts. The form, filed after regular filing of an Estate, Gift, or Income tax return for a decedent, is used by the executor or fiduciary to request discharge from personal liability for any deficiency for the tax and periods shown on the form.

Respondents: Individuals or Households.

Estimated Total Burden Hours: 306,500 hours.

OMB Number: 1545-1841.

Type of Review: Extension.

Title: REG-157302-02 (Final), TD 9142 Deemed IRAs in Qualified Retirement Plans.

Description: Section 408(q), added to the Internal Revenue Code by section 602 of the Economic Growth and Tax Relief Reconciliation Act of 2001, provides that separate accounts and annuities may be added to qualified employer plans and deemed to be individual retirement accounts and individual retirement annuities if certain requirements are met. Section 1.408(q)-1(f)(2) provides that these deemed IRAs must be held in a trust or annuity contract separate from the trust or annuity contract of the qualified employer plan. This collection of information is required to ensure that the separate requirements of qualified employer plans are met.

Respondents: Businesses or other for-profits.

Estimated Total Burden Hours: 40,000 hours.

OMB Number: 1545-1828.

Type of Review: Extension.

Title: REG-131478-02 (Final) Guidance under Section 1502; Suspension of Losses on Certain Stock Disposition.

Description: The information in Sec. 1.1502-35T(c) is necessary to ensure that a consolidated group does not obtain more than one tax benefit from both the utilization of a loss from the disposition of stock and the utilization of a loss or deduction with respect to another asset that reflects the same economic loss; to allow the taxpayer to make an election under Sec. 1.1502-35T(c)(5) that would benefit the taxpayer, the election in Sec. 1.1502-35T(f) provides taxpayers the choice in the case of a worthless subsidiary to utilize a worthless stock deduction or absorb the subsidiary's losses; and Sec. 1.1502-35T(g)(3) applies to ensure that taxpayers do not circumvent the loss suspension rule of § 1.1502-35T(c) by deconsolidating a subsidiary and then re-importing to the group losses of such subsidiary.

Respondents: Businesses or other for-profits.

Estimated Total Burden Hours: 15,000 hours.

OMB Number: 1545-1969.

Type of Review: Extension.

Form: 13751.

Title: Waiver of Right to Consistent Agreement of Partnership Items and Partnership-Level Determinations as to Penalties, Additions to Tax, and Additional Amounts.

Description: The information requested on Form 13751 (as required under Announcement 2005-80) will be used to determine the eligibility for participation in the settlement initiative of taxpayers related through TEFRA partnerships to ineligible applicants. Such determinations will involve partnership items and partnership-level determinations, as well as the calculation of tax liabilities resolved under this initiative, including penalties and interest.

Respondents: Businesses or other for-profits.

Estimated Total Burden Hours: 100 hours.

OMB Number: 1545-1986.

Type of Review: Extension.

Title: Notice 2006-XX Elections Created or Effected by the American Jobs Creation Act of 2004.

Description: The collection of information will enable the Internal Revenue Service to ensure that the eligibility requirements for the various elections or revocations have been satisfied and the requisite sections have been complied with.

Respondents: Businesses or other for-profits.

Estimated Total Burden Hours: 3,034,765 hours.

OMB Number: 1545-1988.

Type of Review: Extension.

Title: Credit for New Qualified Alternative Motor Vehicles (Advanced Lean Burn Technology Motor Vehicles and Qualified Hybrid Motor Vehicles).

Description: This notice sets forth a process that allows taxpayers who purchase passenger automobiles or light trucks to rely on the domestic manufacturer's (or, in the case of a foreign manufacturer, its domestic distributor's) certification that both a particular make, model and year of vehicle qualifies as an advanced lean burn technology motor vehicle under Section 30B(a) (2) and (c) of the Internal Revenue Code or a qualified hybrid motor vehicle under Section 30B(a)(3) and (d), and the amount of the credit allowable with respect to the vehicle.

Respondents: Individuals or Households.

Estimated Total Burden Hours: 280 hours.

OMB Number: 1545-1991.

Type of Review: Revision.

Form: 8804-W.

Title: Installment Payments of Section 1446 Tax for Partnerships.

Description: Regulations for section 1446 require a worksheet for installment payments of section 1446 tax. Partnerships generally must make installment payments of estimated section 1446 tax if they expect the aggregate tax on the effectively connected taxable income (ECTI) that is allocable to all foreign partners to be $500 or more.

Respondents: Businesses or other for-profits.

Estimated Total Burden Hours: 31,600 hours.

OMB Number: 1545-1996.

Type of Review: Extension.

Title: Notice 2006-05, Waiver for Reasonable Cause for Failure to Report Loan Origination Fees and Capitalized Interest.

Description: This Notice provides information to payees who receive payment of interest on qualified education loans who are unable to comply with the information reporting requirements under section 6050S of the Internal Revenue Code.

Respondents: Businesses or other for-profits.

Estimated Total Burden Hours: 5,000 hours.

OMB Number: 1545-2134.

Type of Review: Extension.

Title: Notice 2009-41—Credit for Residential energy efficient property.

Description: This notice provides guidance about the procedures by which a manufacturer can certify that residential energy efficient property qualifies for the § 25D credit. This notice is intended to provide (1) guidance concerning the methods by which manufacturers can provide such certifications to taxpayers, and (2) guidance concerning the methods by which taxpayers can claim such credits.

Respondents: Individuals or Households.

Estimated Total Burden Hours: 350 hours.

OMB Number: 1545-1990.

Type of Review: Extension.

Title: Application of section 338 to Insurance Companies (TD 9377, final).

Description: Final regulations under section 197 of the Internal Revenue Code (Code) that apply to a section 197 intangible resulting from an assumption reinsurance transaction, and under section 338 that apply to reserve increases after a deemed asset sale. The final regulations also provide guidance with respect to existing section 846(e) elections to use historical loss payment patterns. The final regulations apply to insurance companies.

Respondents: Businesses or other for-profits.

Estimated Total Burden Hours: 12 hours.

Clearance Officer: R. Joseph Durbala, (202) 622-3634, Internal Revenue Service, Room 6516, 1111 Constitution Avenue, NW., Washington, DC 20224.

OMB Reviewer: Shagufta Ahmed, (202) 395-7873, Office of Management and Budget, Room 10235, New Executive Office Building, Washington, DC 20503.

Celina Elphage,
Treasury PRA Clearance Officer.

[FR Doc. E9-17914 Filed 7-27-09; 8:45 am]

BILLING CODE 4830-01-P